DEPARTMENT OF STATE

[Delegation of Authority No. 484]

Authorities of the Director of the Office of Foreign Missions

By virtue of the authority of the Secretary of State pursuant to the laws of the United States, and as delegated by Department of State Delegation of Authority No. 462, I hereby delegate to the Principal Deputy Director of the Office of Foreign Missions, to the extent authorized by law, all functions and authorities of the Director of the Office of Foreign Missions, as well as all functions and authorities that have been or may be delegated to such Director.

The functions delegated herein may be re-delegated, to the extent authorized by law. This delegation of authority does not revoke, supersede, or affect any other delegation of authority. Any authority covered by this delegation may also be exercised by the Secretary, the Deputy Secretary, the Under Secretary for Management, and the Director of the Office of Foreign Missions.

This delegation of authority will be published in the Federal Register.

Dated May 26, 2020.
Brian J. Bulatao,
Under Secretary of State for Management, Department of State.

[FR Doc. 2020-13361 Filed 6-19-20; 8:45 am]

BILLING CODE 4710-43-P